SECURITIES AND EXCHANGE COMMISSION

[File No. 500-1]

In the Matter of eCareer Holdings, Inc.; Order of Suspension of Trading

April 8, 2015.

It appears to the Securities and Exchange Commission that there is a lack of current and accurate information concerning the securities of eCareer Holdings, Inc., (“eCareer”) because of questions regarding the accuracy of publicly available information about the company's operations, including questions about the accuracy of statements in its filings regarding eCareer's use of investor proceeds for working capital, its sales of securities in unregistered transactions and compensation received by eCareer's CEO and chairman, including information in eCareer's Form 10-K for the fiscal year ended June 30, 2014, Form 10-Q for the period ended September 30, 2014, and Form 10-Q for the period ended December 31, 2014. Its stock is quoted on OTC Link, operated by OTC Markets Group, Inc., under the ticker: ECHI.

The Commission is of the opinion that the public interest and the protection of investors require a suspension of trading in the securities of eCareer.

Therefore, it is ordered, pursuant to Section 12(k) of the Securities Exchange Act of 1934, that trading in the securities of the above-listed company is suspended for the period from 9:30 a.m. EDT on April 8, 2015, through 11:59 p.m. EDT on April 21, 2015.

By the Commission.
Jill M. Peterson,
Assistant Secretary.

[FR Doc. 2015-08373 Filed 4-8-15; 4:15 pm]

BILLING CODE 8011-01-P